DEPARTMENT OF HEALTH AND HUMAN SERVICES

National Institutes of Health

National Cancer Institute; Amended Notice of Meeting

Notice is hereby given of a change in the meeting of the National Cancer Institute Special Emphasis Panel, March 26, 2015 6:30 p.m. to March 27, 2015, 4 p.m., Bethesda North Marriott Hotel & Conference Center, 5701 Marinelli Road, Bethesda, MD 20852 which was published in the Federal Register on February 17, 2015, 80FR8331.

The meeting notice is amended to change the date and start time to be held on March 27, 2015 at 7:30 a.m. The meeting is closed to the public.

Dated: March 17, 2015.
Melanie J. Gray,
Program Analyst, Office of Federal Advisory Committee Policy.

[FR Doc. 2015-06478 Filed 3-20-15; 8:45 am]

BILLING CODE 4140-01-P